DEPARTMENT OF DEFENSE

Office of the Secretary

[Transmittal Nos. 12-12]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-12 with attached transmittal and policy justification, and Sensitivity of Technology.

Dated: December 31, 2012.
Aaron Siegel,
Alternate OSD Federal Register Liaison Officer, Department of Defense.

BILLING CODE 5001-06-P

BILLING CODE 5001-06-C

Transmittal No. 12-12

Notice of Proposed Issuance of Letter of Offer Pursuant to Section 36(b)(1) of the Arms Export Control Act, as amended

(i) Prospective Purchaser: Turkey

(ii) Total Estimated Value:

Major Defense Equipment* | $110 million
Other | $30 million
Total | $140 million
* as defined in Section 47(6) of the Arms Export Control Act.

(iii) Description and Quantity or Quantities of Articles or Services under Consideration for Purchase: 117 AIM-9X-2 SIDEWINDER Block II All-Up-Round Missiles, 6 AIM-9X-2 Block II Tactical Guidance Units, 6 Dummy Air Training Missiles, 130 LAU-129 Launchers, containers, missile support and test equipment, provisioning, spare and repair parts, personnel training and training equipment, publications and technical data, U.S. Government and contractor technical assistance and other related logistics support.

(iv) Military Department: Navy (AHX Amd #4)

(v) Prior Related Cases, if any: FMS Case AHX-$50M-28Oct05

(vi) Sales Commission, Fee, etc., Paid, Offered, or Agreed to be Paid: None

(vii) Sensitivity of Technology Contained in the Defense Article or Defense Services Proposed to be Sold: See Annex attached

(viii) Date Report Delivered to Congress: 21 December 2012

POLICY JUSTIFICATION

Turkey—AIM-9X-2 SIDEWINDER Missiles

The Government of Turkey has requested a possible sale of 117 AIM-9X-2 SIDEWINDER Block II All-Up-Round Missiles, 6 AIM-9X-2 Block II Tactical Guidance Units, 6 Dummy Air Training Missiles, 130 LAU-129 Launchers, containers, missile support and test equipment, provisioning, spare and repair parts, personnel training and training equipment, publications and technical data, U.S. Government and contractor technical assistance and other related logistics support. The estimated cost is $140 million.

Turkey is a partner of the United States in ensuring peace and stability in the region. It is vital to the U.S. national interest to assist our North Atlantic Treaty Organization (NATO) ally in developing and maintaining a strong and ready self-defense capability that will contribute to an acceptable military balance in the area. This proposed sale is consistent with those objectives.

The Turkish Air Force is modernizing its fighter aircraft to better support its own air defense needs. The proposed sale of AIM-9X-2 missiles will improve Turkey's capability for self defense, modernization, regional security, and interoperability with the U.S. and other NATO members, making it a more valuable partner in an increasingly important area of the world. Turkey will have no difficulty absorbing these missiles into its armed forces.

The proposed sale of this weapon system will not alter the basic military balance in the region.

The prime contractor will be Raytheon Missile Systems Company in Tucson, Arizona. There are no known offset agreements in connection with this potential sale.

Implementation of this proposed sale will require travel of U.S. Government or contractor representatives to Turkey on a temporary basis for program technical support and management oversight.

There will be no adverse impact on U.S. defense readiness as a result of this proposed sale.

Transmittal No. 12-12

Notice of Proposed Issuance of Letter of Offer Pursuant to Section 36(b)(1) of the Arms Export Control Act

Annex

Item No. vii

(vii) Sensitivity of Technology:

1. The AIM-9X-2 SIDEWINDER Block II Missile represents a substantial increase in missile acquisition and kinematics performance over the AIM-9M and replaces the AIM-9X-1 Block I missile configuration. The missile includes a high off bore-sight seeker, enhanced countermeasure rejection capability, low drag/high angle of attack airframe and the ability to integrate the Helmet Mounted Cueing System. The software algorithms are the most sensitive portion of the AIM-9X-2 missile. The software continues to be modified via a pre-planned product improvement (P³I) program in order to improve its counter-countermeasures capabilities. No software source code or algorithms will be released.

2. The AIM-9X-2 will result in the transfer of sensitive technology and information. The equipment, hardware, and documentation are classified Confidential. The software and operational performance are classified Secret. The seeker/guidance control section and the target detector are Confidential and contain sensitive state-of-the-art technology. Manuals and technical documentation that are necessary or support operational use and organizational management are classified up to Secret. Performance and operating logic of the counter-countermeasures circuits are classified Secret. The hardware, software, and data identified are classified to protect vulnerabilities, design and performance parameters and similar critical information.

3. If a technologically advanced adversary were to obtain knowledge of the specific hardware and software elements, the information could be used to develop countermeasures that might reduce weapon system effectiveness or be used in the development of a system with similar or advanced capabilities.

[FR Doc. 2012-31723 Filed 1-3-13; 8:45 am]

BILLING CODE 5001-06-C